DEPARTMENT OF ENERGY

Federal Energy Regulatory Commission

[Docket No. RP02-309-003]

Sunoco Inc. (R&M) v. Transcontinental Gas Pipe Line Corporation; Notice of Filing

July 3, 2003.

Take notice that on June 16, 2003, Transcontinental Gas Pipe Line Corporation (Transco) tendered for filing in compliance with Ordering Paragraph (D) of the Federal Energy Regulatory Commission's (Commission) May 15, 2003 “Order Denying Rehearing, Clarifying Order, and Requiring Filing” (Sunoco, Inc. (R&M) v. Transcontinental Gas Pipe Line Corp., 103 FERC ¶ 61,176 (2003)), a notification to the Commission of its plans with respect to the sale of the Central Texas gathering facilities.

Transco states that copies of the filing are being mailed to its affected customers.

Any person desiring to protest said filing should file a protest with the Federal Energy Regulatory Commission, 888 First Street, NE., Washington, DC 20426, in accordance with 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 10, 2003.

Linda Mitry,
Acting Secretary.

[FR Doc. 03-17498 Filed 7-9-03; 8:45 am]

BILLING CODE 6717-01-P